SURFACE TRANSPORTATION BOARD

[Finance Docket 34936]

Notice of Availability of the Draft Supplemental Environmental Assessment for Northern Columbia Basin Railroad Project

AGENCY: Office of Environmental Analysis (OEA), Surface Transportation Board (Board).

ACTION: Notice of availability of the Draft Supplemental Environmental Assessment (DSEA) on July 11, 2019 and request for comments.

SUMMARY: On November 2, 2018, the Port of Moses Lake (Applicant) filed a Petition to Reopen with the Board seeking authorization for modifications to portions of an 11-mile (7.6 miles of which would be new construction) rail line previously approved by the Board in 2009 in the City of Moses Lake, Grant County, Washington. The purpose of this Notice of Availability (NOA) is to notify individuals and agencies interested in or affected by the proposed action of the availability of the DSEA for review and comment on July 11, 2019.

DATES: The DSEA will be available for public review and comment on July 11, 2019. Mailed comments must be postmarked by August 12, 2019. Electronic comments must be received by August 12, 2019.

ADDRESSES: Please mail written comments on the DSEA, including the recommended environmental mitigation to: Mr. Adam Assenza, Surface Transportation Board, Docket No. FD 34936, 395 E Street SW, Washington, DC 20423. Electronic comments on this DSEA may also be submitted electronically on the STB's website: https://www.stb.gov or emailed to Adam.Assenza@stb.gov. Please refer to Docket No. FD 34936 in all correspondence, including electronic, addressed to the lead agency.

FOR FURTHER INFORMATION CONTACT: Adam Assenza, Surface Transportation Board, Docket No. FD 34963, 395 E Street SW, Washington, DC 20423, (202) 245-0301.

SUPPLEMENTARY INFORMATION: The purpose of the proposed project is to promote economic development through the attraction of new rail-dependent businesses, thereby encouraging the long-term, continued use, growth, and preservation of rail operations in the region. The Federal Railroad Administration (FRA) is participating as a cooperating agency in the preparation of this DSEA pursuant to CEQ NEPA implementing regulations (40 CFR 1501.6). The DSEA analyzes the potential environmental impacts of the proposed modifications to the previously-approved alignment. It also contains OEA's preliminary recommendations for environmental mitigation measures. The DSEA will be available on July 11, 2019 through the Board's website at https://www.stb.gov by following the Decisions link and at the City of Moses Lake Public Library in Grant County, Washington.

Next Steps: Following the close of the 30-day comment period on August 12, 2019 of the DSEA, OEA, and FRA as a cooperating agency, will issue a Final Supplemental EA that considers comments on the DSEA. The Board will then issue a final decision based on the Draft and Final Supplemental EAs and all public and agency comments in the public record for this proceeding. The final decision will address the transportation merits of the proposed project and the entire environmental record. The final decision will take one of three actions: Approve the proposed project, deny it, or approve it with mitigation conditions, including environmental conditions.

Written Comments: Any interested party may submit written comments on the DSEA. The procedures for submitting written comments are outlined in the ADDRESSES section.

Dated: July 9, 2019.
By the Board, Victoria Ruston, Director, Office of Environmental Analysis.
Jeffrey Herzig,
Clearance Clerk.

[FR Doc. 2019-14826 Filed 7-10-19; 8:45 am]

BILLING CODE 4915-01-P